DEPARTMENT OF LABOR

Occupational Safety and Health Administration

[Docket No. ICR-1218-0236 (2004)]

Procedures for the Handling of Discrimination Complaints Under Federal Employee-Protection Statutes; Extension of the Office of Management and Budget's (OMB) Approval of Information Collection (Paperwork) Requirements

AGENCY: Occupation Safety and Health Administration (OSHA), Labor.

ACTION: Request for comment.

SUMMARY: OSHA solicits comment concerning its proposal to extend OMB approval of the information collection requirements for handling of discrimination complaints under Federal Employee Protection Statutes contained in regulations at: 29 CFR part 24, Procedures for the Handling of Discrimination Complaints under Federal Employee Protection Statutes; 29 CFR part 1979, Procedures for Handling Discrimination Complaints Under Wendell H. Ford Aviation Investment and Reform Act for the 21st Century; 29 CFR part 1980, Procedures for Handling of Discrimination Complaints Under Section 806 of the Corporate and Criminal Fraud Accountability Act of 2002, Title VIII of the Sarbanes-Oxley Act 2002; and 29 CFR part 1981 Procedures for the Handling of Discrimination Complaints under Section 6 of the Pipeline Safety and Improvement Act of 2002 (i.e., These Regulations). These regulations set forth procedures employees must use to file a compliant with OSHA alleging that their employer violated a Federal statute that prohibits retaliation against employees who report unsafe or unlawful practices used by the employer that may damage the environment.

DATES: Comments must be submitted by the following dates:

Hard Copy: Your comments must be submitted (postmarked or received) by August 23, 2004.

Facsimile and electronic transmission: Your comment must be received by August 23, 2004.

ADDRESSES:

I. Submission of Comments

Regular mail, express delivery, hand-delivery, and messenger service: Submit your comments and attachments to the OSHA Docket Office, Docket No. ICR 1218-0236(2004), Room N-2625, U.S. Department of Labor, 200 Constitution Avenue, NW., Washington, DC 20210. OSHA Docket Office and Department of Labor hours of operation are 8:15 a.m. to 4:45 p.m., EST.

Facsimile: If your comments, including any attachments, are 10 pages or fewer, you may fax them to the OSHA Docket Office at (202) 693-1648. You must include the docket number, ICR 1218-0236(2004), in your comments.

Electronic: You may submit comments, but not attachments, through the Internet at http://ecomments.osha.gov/.

Obtaining Copies of the Supporting Statement for the Information Collection Request

The Supporting Statement for the Information Collection Request (ICR) is available for downloading from OSHA's Web site at http://www.osha.gov. The complete ICR, containing the OMB 83-I Form, Supporting Statement, and attachments is available for inspection and copying in the OSHA Docket Office, at the address listed above. A printed copy of the supporting statement can be obtained by contacting Todd Owen at (202) 693-2222.

FOR FURTHER INFORMATION CONTACT: Renee Ballou, Office of General Industry Enforcement, Directorate of Enforcement Programs, OSHA, U.S. Department of Labor, Room N-3119, 200 Constitution Avenue, NW., Washington, DC 20210; telephone (202) 693-1850.

SUPPLEMENTARY INFORMATION:

I. Submission of Comments on This Notice and Internet Access to Comments and Submissions

You may submit comments in response to this document by (1) hard copy, (2) FAX transmission (facsimile), or (3) electronically through the OSHA webpage. Please note you cannot attach materials such as studies or journal articles to electronic comments. If you have additional materials, you must submit three copies of them to the OSHA Docket Office at the address above. The additional materials must clearly identify your electronic comments by name, date, subject and docket number so that we can attach them to your comments. Because of security-related problems there may be a significant delay in the receipt of comments by regular mail. Please contact the OSHA Docket Office at (202) 693-2350 for information about security procedures concerning the delivery of material by express delivery, hand delivery and messenger service.

II. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimized, collection instruments are understandable, and OSHA's estimate of the information-collection burden is correct.

The Agency is responsible for investigating alleged violations of “whistle blower” provisions contained in a number of Federal statutes. These provisions prohibit retaliation by employers against employees who report unsafe or unlawful practices used by the employers that may adversely affect occupational safety and health or the environment. Accordingly, these provisions prohibit an employer from discharging or taking any other retaliatory action against an employee with respect to compensation, or the term, conditions, or privileges of employment because the employee engages in any of the protected activities specified by the “whistle blower” provisions of the Federal statutes.

These Federal statutes are covered under the following regulations: 29 CFR Part 24, Procedures for the Handling of Discrimination Complaints under Federal Employee Protection (29 CFR Part 24 covers: Safe Water Drinking Act, 42 U.S.C. 300j-9(i); Water Pollution Control Act, 33 U.S.C. 1367; Toxic Substances Control Act, 15 U.S.C. 2622; Solid Waste Disposal Act, 42 U.S.C. 6971; Clean Air Act 42 U.S.C. 7622; Energy Reorganization Act of 1974, 42 U.S.C. 5851; Comprehensive Environmental Response, Compensation and Liability Act of 1980, 42 U.S.C. 9610); 29 CFR part 1979, Procedures for Handling Discrimination Complaints Under Wendell H. Ford Aviation Investment and Reform Act for the 21st Century; 29 CFR part 1980, Procedures for Handling of Discrimination Complaints Under Section 806 of the Corporate and Criminal Fraud Accountability Act of 2002, Title VIII of the Sarbanes-Oxley Act 2002; and 29 CFR part 1981 Procedures for the Handling of Discrimination Complaints under Section 6 of the Pipeline Safety and Improvement Act of 2002.

These regulations specify the procedures that an employee must use to file a complaint with OSHA alleging that their employer violated a “whistle blower” provision for which the Agency has investigative responsibility. Any employee who believes that such a violation occurred may file a compliant, or have the complaint filed on their behalf. While OSHA specifies no particular form for filing a complaint, these regulations require that a complaint must be in writing and should include a full statement of the acts and omissions, with pertinent dates, which are believed to constitute the violation.

III. Special Issues for Comment

OSHA has a particular interest in comments on the following issues:

• Whether the proposed information-collection requirements are necessary for the proper performance of the Agency's functions to protect workers, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

IV. Proposed Actions

OSHA proposes to extend OMB's approval of the collection-of-information requirements contained in Regulations Containing Procedures for Handling Discrimination Complaints. The Agency will summarize the comments submitted in response to this notice, and will include this summary in its request to OMB to extend the approval of these information-collection requirements.

Type of Review: Extension of a currently-approved information-collection requirement.

Title: Regulations Containing Procedures for Handling of Discrimination Complaints.

OMB Number: 1218-0236.

Affected Public: Individuals.

Number of Respondents: 368.

Frequency of Recordkeeping: On occasion.

Average Time per Response: 1 Hour.

Estimated Total Burden Hours: 368 hours.

Estimated Cost (Operation and Maintenance): $0

V. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on June 18th, 2004.
John L. Henshaw,
Assistant Secretary of Labor.

[FR Doc. 04-14331 Filed 6-23-04; 8:45 am]

BILLING CODE 4510-26-M